DEPARTMENT OF JUSTICE

Federal Bureau of Investigation

Meeting of the Compact Council for the National Crime Prevention and Privacy Compact

AGENCY: Federal Bureau of Investigation, Justice.

ACTION: Meeting Notice.

SUMMARY: The purpose of this notice is to announce a meeting of the Compact Council created by the National Crime Prevention and Privacy Compact Act of 1998 (Compact). Thus far, the federal government and fourteen states are parties to the Compact which governs the exchange of criminal history records for licensing, employment, and similar purposes. The Compact also provides a legal framework for the establishment of a cooperative Federal State system to exchange such records.

The United States Attorney General appointed fifteen persons from federal and state agencies to serve on the Compact Council. The Council will prescribe system rules and procedures for the effective and proper operation of the Interstate Identification Index system.

Matters for discussion are expected to include: (1) Proposed Amendments to the Delayed Fingerprint Submission Requirement Rule, (2) State/FBI Qualification Requirements and Audit Criterion for Participation in the National Fingerprint File, (3) Status Report on the National Fingerprint Applicant Check Study, (4) Discussion on Privatization Initiatives and the Development of Security/Management Control Standards, (5) Proposed Sanctions Rule, (6) Proposed Improvements to National Fingerprint File Responses for Electronic Fingerprint Based Requests for Criminal History Records Checks.

The meeting will be open to the public on a first-come, first-seated basis. Any member of the public wishing to file a written statement with the Compact Council or wishing to address this session of the Compact Council should notify Ms. Cathy L. Morrison at (304) 625-2736, at least 24 hours prior to the start of the session. The notification should contain the requestor's name and corporate designation, consumer affiliation, or government designation, along with a short statement describing the topic to be addressed, and the time needed for the presentation. Requestors will ordinarily be allowed up to 15 minutes to present a topic.

Dates and Times: The Compact Council will meet in open session from 9 a.m. to 5 p.m. on February 25-26, 2003.

ADDRESSES: The meeting will take place at the Renaissance Scottsdale Resort, 6160 North Scottsdale Road, Scottsdale, Arizona, telephone (480) 991-1414.

FOR FURTHER INFORMATION CONTACT: Inquiries may be addressed to Ms. Cathy L. Morrison, Interim FBI Compact Officer, Compact Council Office, Module C3, 1000 Custer Hollow Road, Clarksburg, West Virginia 26306-0148, telephone (304) 625-2736, facsimile (304) 625-5388.

Dated: January 14, 2003.
Bobby P. Hamil, Jr.,
Acting Section Chief, Programs Development Section, Criminal Justice Information Services Division, Federal Bureau of Investigation.

[FR Doc. 03-1303 Filed 1-21-03; 8:45 am]

BILLING CODE 4410-02-M